DEPARTMENT OF LABOR

Mine Safety and Health Administration

Petitions for Modification

The following parties have filed petitions to modify the application of existing safety standards under section 101(c) of the Federal Mine Safety and Health Act of 1977.

1. Lykens Coal Company (B & H)

[Docket No. M-2002-090-C]

Lykens Coal Company, 140 Deerlane, Hegins, Pennsylvania 17938 has filed a petition to modify the application of 30 CFR 75.1400 (Hoisting equipment; general) to its (I.D. No. 36-08830) located in Schuylkill County, Pennsylvania. The petitioner proposes to use a slope conveyance (gunboat) for transporting persons without installing safety catches or other no less effective devices. The petitioner would instead use increased rope strength and secondary safety rope connections in place of such devices. The petitioner asserts that the proposed alternative method would provide at least the same measure of protection as the existing standard.

2. Perry County Coal Corporation

[Docket No. M-2002-091-C]

Perry County Coal Corporation, 1845 S. KY Hwy 15, Hazard, Kentucky 41702 has filed a petition to modify the application of 30 CFR 75.350 (Air courses and belt haulage entries) to its E4-1 Mine (I.D. No. 15-18565) located in Perry County, Kentucky. The petitioner proposes to use belt air to ventilate active working places. The petitioner proposes to install a carbon monoxide monitoring system as an early warning fire detection system in all belt entries used to course intake air to a working place. The petitioner asserts that the proposed alternative method would provide at least the same measure of protection as the existing standard.

3. Mountain Side Coal Company

[Docket No. M-2002-092-C]

Mountain Side Coal Company, RD 3 Box 142D, Sunbury, Pennsylvania 17801 has filed a petition to modify the application of 30 CFR 49.2 (Availability of mine rescue teams) to its Mountain Side Mine (I.D. No. 36-09108) located in Northumberland County, Pennsylvania. The petitioner requests a modification of the standard to permit the reduction of two mine rescue teams with five members and one alternate each, to two mine rescue teams of three members with one alternate for either team. The petitioner asserts that application of the existing standard would result in a diminution of safety to the miners and members of the rescue team and that the proposed alternative method would provide at least the same measure of protection as the existing standard. The petitioner asserts that the proposed alternative method would provide at least the same measure of protection as the existing standard.

4. Mountain Side Coal Company

[Docket No. M-2002-093-C]

Mountain Side Coal Company, RD 3, Box 142D, Sunbury, Pennsylvania 17801 has filed a petition to modify the application of 30 CFR 75.335 (Construction of seals) to its Mountain Side Mine (I.D. No. 36-09108) located in Northumberland County, Pennsylvania. The petitioner proposes to use wooden materials of moderate size and weight due to the difficulty in accessing previously driven headings and breasts containing inaccessible abandoned workings; to accept a design criteria in the 10 psi range; and to permit the water trap to be installed in the gangway seal and sampling tube in the monkey seal for seals installed in pairs. The petitioner asserts that the proposed alternative method would provide at least the same measure of protection as the existing standard.

5. Mountain Side Coal Company

[Docket No. M-2002-094-C]

Mountain Side Coal Company, RD 3, Box 142D, Sunbury, Pennsylvania 17801 has filed a petition to modify the application of 30 CFR 75.1100 (Quantity and location of firefighting equipment) to its Mountain Side Mine (I.D. No. 36-09108) located in Northumberland County, Pennsylvania. The petitioner requests a modification of the standard to permit use of only portable fire extinguishers to replace existing requirements where rock dust, water cars, and other water storage equipped with three (3) ten quart pails is not practical. The petitioner proposes to use two (2) portable fire extinguishers near the slope bottom and an additional portable fire extinguisher within 500 feet of the working face for equivalent fire protection for the Mountain Side Mine. The petitioner asserts that the proposed alternative method would provide at least the same measure of protection as the existing standard.

6. Mountain Side Coal Company

[Docket No. M-2002-095-C]

Mountain Side Coal Company, RD 3, Box 142D, Sunbury, Pennsylvania 17801 has filed a petition to modify the application of 30 CFR 75.1200(d) & (i) (Mine map) to its Mountain Side Mine (I.D. No. 36-09108) located in Northumberland County, Pennsylvania. The petitioner proposes to use cross-sections instead of contour lines through the intake slope, at locations of rock tunnel connections between veins, and at 1,000 foot intervals of advance from the intake slope; and to limit the required mapping of the mine workings above and below to those present within 100 feet of the vein being mined except when veins are interconnected to other veins beyond the 100-foot limit through rock tunnels. The petitioner asserts that due to the steep pitch encountered in mining anthracite coal veins, contours provide no useful information and their presence would make portions of the map illegible. The petitioner further asserts that use of cross-sections in lieu of contour lines has been practiced since the late 1800's thereby providing critical information relative to the spacing between veins and proximity to other mine workings which fluctuate considerably. The petitioner asserts that the proposed alternative method would provide at least the same measure of protection as the existing standard.

7. Mountain Side Coal Company

[Docket No. M-2002-096-C]

Mountain Side Coal Company, RD 3, Box 142D, Sunbury, Pennsylvania 17801 has filed a petition to modify the application of 30 CFR 75.1202 and 75.1202-1(a) (Temporary notations, revisions, and supplements) to its Mountain Side Mine (I.D. No. 36-09108) located in Northumberland County, Pennsylvania. The petitioner proposes to revise and supplement mine maps annually instead of every 6 months as required, and to update maps daily by hand notations. The petitioner also proposes to conduct surveys prior to commencing retreat mining and whenever either a drilling program under 30 CFR 75.388 or plan for mining into inaccessible areas under 30 CFR 75.389 is required. The petitioner asserts that the proposed alternative method would provide at least the same measure of protection as the existing standard.

8. Consolidation Coal Company

[Docket No. M-2002-097-C]

Consolidation Coal Company, Consol Energy, 1800 Washington Road, Pittsburgh, Pennsylvania 15241-1421 has filed a petition to modify the application of 30 CFR 75.364(b)(2) (Weekly examination) to its Robinson Run No. 95 Mine (I.D. No. 46-01318) located in Marion County, Pennsylvania. The petitioner proposes to establish check points 3W-1 and 3W-2 to measure the quality and quantity of air at the inlet of the air course area where roof conditions are deteriorating. The petitioner states that due to the deteriorating conditions in the affected area, traveling the area in its entirety would be unsafe. The petitioner further states that the check points and all approaches to the check points would be maintained in safe condition at all times, and a certified person will conduct tests for methane and the quantity of air at each check point on a weekly basis and place his/her initials, date, and time in a record book that would be kept on the surface and made available for inspection by interested persons. The petitioner asserts that the proposed alternative method would provide at least the same measure of protection as the existing standard.

9. Mountain Side Coal Company

[Docket No. M-2002-098-C]

Mountain Side Coal Company, RD 3, Box 142D, Sunbury, Pennsylvania 17801 has filed a petition to modify the application of 30 CFR 75.1400 (Hoisting equipment; general) to its Mountain Side Mine (I.D. No. 36-09108) located in Northumberland County, Pennsylvania. The petitioner proposes to use a slope conveyance (gunboat) for transporting persons without installing safety catches or other no less effective devices. The petitioner would instead use increased rope strength and secondary safety rope connections in place of such devices. The petitioner asserts that the proposed alternative method would provide at least the same measure of protection as the existing standard.

10. The New Coal Company, Inc.

[Docket No. M-2002-099-C]

The New Coal Company, Inc., P.O. Box 369, Harlan, Kentucky 40831 has filed a petition to modify the application of 30 CFR 77.1607(cc) (Loading and hauling equipment; operation) to its Dayhoit Tipple Mine (I.D. No. 15-10391) located in Harlan County, Kentucky. The petitioner proposes to install locked gates instead of emergency stop devices or cords at ungarded conveyors with walkways to eliminate any entrance to these conveyors. The petitioner states that only the supervisor will have a key to unlock the gates, that access to the conveyors will be for repairs only, and the conveyors will be shut off and the power locked out before the gates are unlocked. The petitioner asserts that the proposed alternative method would provide at least the same measure of protection as the existing standard.

11. Highland Mining Company

[Docket No. M-2002-100-C]

Highland Mining Company, 1970 Barrett Court, P.O. Box 1990, Henderson, Kentucky 42419-1990 has filed a petition to modify the application of 30 CFR 75.503 (Permissible electric face equipment; maintenance) and 30 CFR 18.41(f) (Plug and receptacle-type connectors) to its Highland 11 Mine (I.D. No. 15-18480) located in Union County, Kentucky. The petitioner proposes to use a spring-loaded locking device on battery plug connectors on mobile battery-powered equipment to prevent the threaded ring securing the battery plugs to the battery receptacles from unintentional loosening, and attach locking device brackets to the battery receptacles to prevent the loss of the brackets. The petitioner will install a warning tag that states “Do Not Disengage Under Load,” on all battery plug connectors and provide instructions on the safe practices and provisions to all persons who operate or maintain the battery-powered machines. The petitioner further states that the training plan for the mine will be revised to specify initial and refresher training for use of the spring-loaded devices. The petitioner asserts that the proposed alternative method would provide at least the same measure of protection as the existing standard.

12. Oxbow Mining, LLC

[Docket No. M-2002-101-C]

Oxbow Mining, LLC, P.O. Box 535, 3737 Highway 133, Somerset, Colorado 81434 has filed a petition to modify the application of 30 CFR 75.1909(b)(6) (Nonpermissible diesel-powered equipment; design and performance requirements) to its Elk Creek Mine (I.D. No. 05-04674) located in Gunnison County, Colorado. The petitioner proposes an alternate method in lieu of front wheel brakes on the Getman Roadbuilder, S/N 6718, diesel grader used at the Elk Creek Mine. The petitioner proposes to operate its diesel grader at a maximum speed of 10 miles per hour or less, to train all grader operators to lower the moldboard (grader blade) for additional stopping capability in emergencies, and on how to recognize appropriate levels of speed for different road conditions and slopes. The petitioner states that its alternate method would not be implemented until all grader operators have been trained, and the diesel grader would not be put into service until MSHA has inspected the equipment for compliance. The petitioner asserts that the proposed alternative method would provide at least the same measure of protection as the existing standard.

13. Lafarge Corporation

[Docket No. M-2002-005-M]

Lafarge Corporation, 2200 Courtney & Atherton Road, Sugar Creek, Missouri 64050 has filed a petition to modify the application of 30 CFR 56.12016 (Work on electrically-powered equipment) to its Sugar Creek Cement Plant (I.D. No. 23-00158) located in Jackson County, Missouri. The petitioner requests a waiver from the existing standard so that neither signatures nor warning notices would be required at the Lafarge Mine. The petitioner proposes to provide each employee with specifically designated locks for lockout that would be engraved with the employee's name. The employee will have the only key and the locks will be identified by color. The petitioner states that unlike a tag or sign, the engraved name would not be accidentally removed or become unreadable. The petitioner asserts that the proposed alternative method would provide at least the same measure of protection as the existing standard.

14. Lafarge Corporation

[Docket No. M-2002-006-M]

Lafarge Corporation, 2200 Courtney & Atherton Road, Sugar Creek, Missouri 64050 has filed a petition to modify the application of 30 CFR 56.12017 (Work on power circuits) to its Sugar Creek Cement Plant (I.D. No. 23-00158) located in Jackson County, Missouri. The petitioner requests a waiver from the existing standard so that warning signs would not be required at the Lafarge Mine. The petitioner proposes to provide each employee with specifically designated locks for lockout that would be engraved with the employee's name. The employee will have the only key and the locks will be identified by color. The petitioner states that unlike a tag or sign, the engraved name would not be accidentally removed or become unreadable. The petitioner asserts that the proposed alternative method would provide at least the same measure of protection as the existing standard.

15. Lafarge Corporation

[Docket No. M-2002-007-M]

Lafarge Corporation, 2200 Courtney & Atherton Road, Sugar Creek, Missouri 64050 has filed a petition to modify the application of 30 CFR 57.12016 (Work on electrically-powered equipment) to its Sugar Creek Underground Limestone Mine (I.D. No. 23-02171) located in Jackson County, Missouri. The petitioner requests a waiver from the existing standard so that neither signatures nor warning notices would be required at the Lafarge Mine. The petitioner proposes to provide each employee with specifically designated locks for lockout that would be engraved with the employee's name. The employee will have the only key and the locks will be identified by color. The petitioner states that unlike a tag or sign, the engraved name would not be accidentally removed or become unreadable. The petitioner asserts that the proposed alternative method would provide at least the same measure of protection as the existing standard.

16. Lafarge Corporation

[Docket No. M-2002-008-M]

Lafarge Corporation, 2200 Courtney & Atherton Road, Sugar Creek, Missouri 64050 has filed a petition to modify the application of 30 CFR 57.12017 (Work on power circuits) to its Sugar Creek Underground Limestone Mine (I.D. No. 23-02171) located in Jackson County, Missouri. The petitioner requests a waiver from the existing standard so that warning signs would not be required at the Lafarge Mine. The petitioner proposes to provide each employee with specifically designated locks for lockout that would be engraved with the employee's name. The employee will have the only key and the locks will be identified by color. The petitioner states that unlike a tag or sign, the engraved name would not be accidentally removed or become unreadable. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before January 2, 2003. Copies of these petitions are available for inspection at that address.

Dated at Arlington, Virginia this 26th day of November 2002.
Marvin W. Nichols, Jr.,
Director, Office of Standards, Regulations, and Variances.

[FR Doc. 02-30493 Filed 12-2-02; 8:45 am]

BILLING CODE 4510-43-P